ENVIRONMENTAL PROTECTION AGENCY

40 CFR Part 52

[FRL-9743-4]

Notice of Approval of Clean Air Act Prevention of Significant Deterioration Permit Issued to the City of Palmdale for the Palmdale Hybrid Power Project

AGENCY: Environmental Protection Agency.

ACTION: Final action.

SUMMARY: This document announces that Environmental Protection Agency (EPA) Region 9 has issued a final permit decision issuing a Clean Air Act Prevention of Significant Deterioration (PSD) permit for the City of Palmdale (City) for the construction of the Palmdale Hybrid Power Project (PHPP).

DATES: EPA Region 9 issued a final PSD permit decision for the PHPP on September 25, 2012. The permit also became effective on that date. Pursuant to section 307(b)(1) of the Clean Air Act, 42 U.S.C. 7607(b)(1), judicial review of this final permit decision, to the extent it is available, may be sought by filing a petition for review in the United States Court of Appeals for the Ninth Circuit within 60 days of October 19, 2012.

ADDRESSES: Documents relevant to the above-referenced permit are available for public inspection during normal business hours at the following address: U.S. Environmental Protection Agency, Region 9, 75 Hawthorne Street, San Francisco, CA 94105-3901. To arrange for viewing of these documents, call Lisa Beckham at (415) 972-3811.

FOR FURTHER INFORMATION CONTACT: Lisa Beckham, Permits Office (Air-3), U.S. Environmental Protection Agency, Region 9, (415) 972-3811, beckham.lisa@epa.gov. Anyone who wishes to review the EPA Environmental Appeals Board (EAB) decision described below or documents in the EAB's electronic docket for its decision can obtain them at http://www.epa.gov/eab/. A copy of the PSD permit is also available at http://www.epa.gov/region9/air/permit/r9-permits-issued.html.

SUPPLEMENTARY INFORMATION: EPA Region 9 issued a final permit to the City authorizing the construction and operation of the PHPP, PSD Permit No. SE 09-01. The City's permit was initially issued by EPA Region 9 on October 18, 2011.

The EPA's EAB received one petition for review of the PHPP permit from Mr. Rob Simpson. On September 17, 2012, the EAB denied review of Mr. Simpson's petition. See In re City of Palmdale, PSD Appeal No. 11-07 (EAB, Sept. 17, 2012) (Order Denying Review). Following the EAB's action, pursuant to 40 CFR 124.19(f)(1), EPA Region 9 issued a final permit decision on September 25, 2012. All conditions of the PHPP PSD permit, as initially issued by EPA Region 9 on October 18, 2011, are final and effective as of September 25, 2012.

Dated: September 27, 2012.
Elizabeth Adams,
Acting Director, Air Division, Region IX.

[FR Doc. 2012-25796 Filed 10-18-12; 8:45 am]

BILLING CODE 6560-50-P